DEPARTMENT OF LABOR

Employee Benefits Security Administration

Proposed Extension of Information Collection; Comment Request Definition of “Plan Assets”—Participant Contributions

ACTION: Notice.

SUMMARY: The Department of Labor (the Department), as part of its continuing effort to reduce paperwork and respondent burden, conducts a preclearance consultation program to provide the general public and Federal agencies with an opportunity to comment on proposed and continuing collections of information in accordance with the Paperwork Reduction Act of 1995 (PRA 95) (44 U.S.C. 3506(c)(2)(A)). This program helps to ensure that the data the Department collects can be provided in the desired format, that the reporting burden on the public (time and financial resources) is minimized, that the public understands the Department's collection instruments, and that the Department can accurately assess the impact of its collection requirements on respondents.

Currently, the Employee Benefits Security Administration (EBSA) is soliciting comments concerning an extension of the current approval of the information collection in the regulation entitled Definition of Plan Assets—Participant Contributions, codified at 29 CFR 2510.3-102. A copy of EBSA's proposed information collection request (ICR) can be obtained by contacting the individual listed below in the ADDRESSES section of this notice.

DATES: Comments must be submitted on or before March 27, 2006.

ADDRESSES: Direct all comments regarding the ICR and burden estimates to Susan G. Lahne, Office of Policy and Research, Employee Benefits Security Administration, U.S. Department of Labor, 200 Constitution Avenue, NW., Washington, DC 20210. Comments may be submitted in writing to the above address, via facsimile to (202) 219-4745, or electronically to the following Internet e-mail address: ebsa.opr@dol.gov. You may contact Ms. Lahne for further information at (202) 693-8410. These telephone numbers are not toll-free numbers.

SUPPLEMENTARY INFORMATION:

I. Background

The regulation concerning plan assets and participant contributions provides guidance for fiduciaries, participants, and beneficiaries of employee benefit plans regarding how participant contributions to pension plans must be handled when they are either paid to the employer by the participant or directly withheld by the employer from the employee's wages for transmission to the pension plan. In particular, the regulation sets standards for the timely delivery of such participant contributions, including an outside time limit for the employer's holding of participant contributions. In addition, for those employers who may have difficulty meeting the regulation's outside deadlines for transmitting participant contribution, the regulation provides the opportunity for the employer to obtain an extension of the time limit by providing participants and the Department with a notice that contains specified information. The ICR pertains to this notice requirement. The Department previously requested review of this information collection and obtained approval from the Office of Management and Budget (OMB) under OMB control number 1210-0100. That approval is scheduled to expire on April 30, 2006.

II. Desired Focus of Comments

The Department of Labor (Department) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

III. Current Actions

This notice requests comments on an extension of the ICR included in the regulation governing the definition of “plan assets” as related to participant contributions. The Department is not proposing or implementing changes to the existing ICR at this time. A summary of the ICR and the current burden estimates follows:

Type of Review: Extension of a currently approved information collection.

Agency: Employee Benefits Security Administration.

Title: Definition of Plan Assets—Participant Contributions.

OMB Number: 1210-0100.

Affected Public: Business or other for-profit; not-for-profit institutions; individuals.

Number of Respondents: 1.

Frequency: On occasion.

Number of Annual Responses: 251.

Total Burden Hours: 3.

Total Burden Cost (Operating and Maintenance): $300.

Comments submitted in response to this notice will be summarized and/or included in the request for Office of Management and Budget approval of the information collection request; they will also become a matter of public record.

Dated: January 19, 2006.
Susan G. Lahne,
Office of Policy and Research, Employee Benefits Security Administration.

[FR Doc. E6-883 Filed 1-24-06; 8:45 am]

BILLING CODE 4510-29-P